SECURITIES AND EXCHANGE COMMISSION

Sunshine Act Meeting

Notice is hereby given, pursuant to the provisions of the Government in the Sunshine Act, Public Law 94-409, that the Securities and Exchange Commission will hold an Open Meeting on Tuesday, July 12, 2016, at 1:00 p.m., in the Auditorium (L-002) at the Commission's headquarters building, to hear oral argument in an appeal by the Respondents John J. Aesoph, CPA and Darren M. Bennett, CPA, and a cross-appeal by the Division of Enforcement, from an initial decision of an administrative law judge.

On June 27, 2014, the law judge found that Aesoph and Bennett engaged in “improper professional conduct” under Commission Rule of Practice 102(e) and Section 4C of the Securities Exchange Act of 1934, during their service as the engagement partner and senior manager of KPMG, LLP's audit of the 2008 financial statements of TierOne Corporation, a holding company for TierOne Bank. The law judge suspended Aesoph from appearing or practicing before the Commission as an accountant for one year, and suspended Bennett from appearing or practicing before the Commission as an accountant for six months.

Respondents appealed the law judge's findings of liability and the sanctions imposed; the Division cross-appealed the sanctions imposed. The issues likely to be considered at oral argument include, among other things, whether Respondents engaged in “improper professional conduct” as alleged and, if so, the extent to which they should be sanctioned. Also likely to be considered at oral argument is whether these administrative proceedings violate the U.S. Constitution.

For further information, please contact Brent J. Fields from the Office of the Secretary at (202) 551-5400.

Dated: July 5, 2016.
Lynn M. Powalski,
Deputy Secretary.

[FR Doc. 2016-16309 Filed 7-6-16; 11:15 am]

BILLING CODE 8011-01-P